MEDICARE PAYMENT ADVISORY COMMISSION

Commission Meeting

AGENCY: Medicare Payment Advisory Commission.

ACTION: Notice of meeting.

SUMMARY: The Commission will hold its next public meeting on Tuesday, November 16, 2004, and Wednesday, November 17, 2004, at the Ronald Reagan Building, International Trade Center, 1300 Pennsylvania Avenue, NW., Washington, DC. The meeting is tentatively scheduled to begin at 10 a.m. on November 16, and at 9 a.m. on November 17.

Topics for discussion include findings on congressionally mandated studies including: Specialty hospitals; certified registered nurse first assistants; physicians volume; cardiothoracic surgeons, and eliminating physician referrals to physical therapy. Additional presentations will include physician quality, findings from a study on employer-sponsored health benefits, and home health payment.

Agendas will be e-mailed approximately one week prior to the meeting. The final agenda will be available on the Commission's Web site (http://www.MedPAC.gov).

ADDRESSES: MedPAC's address is: 601 New Jersey Avenue, NW., Suite 9000, Washington, DC 20001. The telephone number is (202) 220-3700.

FOR FURTHER INFORMATION CONTACT: Diane Ellison, Office Manager, (202) 220-3700.

Sarah S. Thomas,
Deputy Director.

[FR Doc. 04-25176 Filed 11-10-04; 8:45 am]

BILLING CODE 6820-BW-M